DEPARTMENT OF THE INTERIOR

National Park Service

Notice of Inventory Completion: American Museum of Natural History, New York, NY

AGENCY: National Park Service, Interior.

ACTION: Notice.

Notice is here given in accordance with the Native American Graves Protection and Repatriation Act (NAGPRA), 25 U.S.C. 3003, of the completion of an inventory of human remains and associated funerary objects in the possession of the American Museum of Natural History, New York, NY. The human remains and associated funerary objects were removed from Lower Memaloose Island, Wasco County, OR, and Upper Memaloose Island, Klickitat County, WA.

This notice is published as part of the National Park Service(s administrative responsibilities under NAGPRA, 25 U.S.C. 3003 (d)(3). The determinations within this notice are the sole responsibility of the museum, institution, or Federal agency that has control of the Native American human remains and associated funerary objects. The National Park Service is not responsible for the determinations within this notice.

A detailed assessment of the human remains was made by American Museum of Natural History professional staff in consultation with representatives of the Confederated Tribes and Bands of the Yakama Indian Nation, Washington; Confederated Tribes of the Chehalis Reservation, Washington; Confederated Tribes of the Colville Reservation, Washington; Confederated Tribes of the Grand Ronde Community of Oregon; Confederated Tribes of the Warm Springs Reservation of Oregon; Hoh Indian Tribe of the Hoh Indian Reservation, Washington; Jamestown S'Klallam Tribe of Washington; Lower Elwha Tribal Community of the Lower Elwha Reservation, Washington; Lummi Tribe of the Lummi Reservation, Washington; Makah Indian Tribe of the Makah Indian Reservation, Washington; Muckleshoot Indian Tribe of the Muckleshoot Reservation, Washington; Nisqually Indian Tribe of the Nisqually Reservation, Washington; Nooksack Indian Tribe of Washington; Port Gamble Indian Community of the Port Gamble Reservation, Washington; Puyallup Tribe of the Puyallup Reservation, Washington; Quileute Tribe of the Quileute Reservation, Washington; Quinault Tribe of the Quinault Reservation, Washington; Samish Indian Tribe, Washington; Shoalwater Bay Tribe of the Shoalwater Bay Indian Reservation, Washington; Skokomish Indian Tribe of the Skokomish Reservation, Washington; Squaxin Island Tribe of the Squaxin Island Reservation, Washington; Stillaguamish Tribe of Washington; Swinomish Indians of the Swinomish Reservation, Washington; Tulalip Tribes of the Tulalip Reservation, Washington; and Upper Skagit Indian Tribe of Washington.

In 1870, human remains representing a minimum of four individuals were removed from Memaloose Island, Columbia River, in the vicinity of The Dalles, OR, by Dr. Joseph Simms. It is unclear from museum records whether the human remains came from Upper Memaloose Island, Klickatat County, WA, or Lower Memaloose Island, Wasco County, OR. Dr. Simms donated the human remains and 9 of the 13 associated funerary objects to the American Museum of Natural History in 1872. In 1903, Dr. Simms donated the four remaining associated funerary objects to the museum. No known individuals were identified. The 13 associated funerary objects are 2 copper kettles, 4 strings of beads, 2 bracelets, 2 blanket pieces, and 3 leather wrapping pieces.

In 1882, human remains representing a minimum of three individuals were removed from the Columbia River in the vicinity of The Dalles, Wasco County, OR, by James Terry. The human remains were purchased by the American Museum of Natural History from Mr. Terry in 1891. Museum records give the actual locality as Tum-Wa-Ta, OR, Lower Memaloose Island(?). No known individuals were identified. No associated funerary objects are present.

In 1887, human remains representing one individual were removed from Lower Memaloose Island, Columbia River, Wasco County, OR, by J. Hageny. James Terry acquired these human remains and sold them to the American Museum of Natural History in 1891. No known individual was identified. No associated funerary objects are present.

At an unknown date, human remains representing a minimum of 86 individuals were removed from Upper Memaloose Island, Columbia River, Klickitat County, WA, by George A. Dorsey. In 1905, the American Museum of Natural History purchased the human remains from Mr. Dorsey. No known individuals were identified. No associated funerary objects are present.

At an unknown date, human remains representing a minimum of 42 individuals were removed from Upper Memaloose Island, Columbia River, Klickitat County, WA, by unknown individuals. The human remains came into the possession of George Dorsey, who sold them to F. von Luschan in 1913. In 1924, F. Warburg, acting for F. von Luschan, donated the remains to the American Museum of Natural History. No known individuals were identified. No associated funerary objects are present.

The human remains removed from Memaloose Island in 1870 have been identified as Native American based on the types of associated funerary objects and the presence of cranial deformation observable in two individuals. Material is wrapped around the heads of the other two individuals. The human remains are wrapped in hide and blankets, and date to the postcontact period. Wrapping of the deceased and cranial deformation are consistent with practices of the Chinook- and Sahaptin-speaking groups. The other human remains removed from the Memaloose Islands also have been identified as Native American based on the presence of cranial deformation. The type of cranial deformation exhibited by most of these individuals is common among Chinookan-speakers and far less common among Sahaptin-speakers.

The Memaloose Islands were used by local Native American peoples for the burial of their dead during the postcontact period. The Memaloose Islands are within the traditional territory of Chinook- and Sahaptin-speaking Indian groups represented today by the Confederated Tribes and Bands of the Yakama Indian Nation, Washington and the Confederated Tribes of the Warm Springs Reservation of Oregon. Representatives of the Confederated Tribes of the Grande Ronde, whose membership also includes Chinookan-speakers, have indicated that Upper and Lower Memaloose Islands are outside of its postcontact territory.

Officials of the American Museum of Natural History have determined that, pursuant to 25 U.S.C. 3001 (9-10), the human remains described above represent the physical remains of a minimum of 136 individuals of Native American ancestry. Officials of the American Museum of Natural History also have determined that, pursuant to 25 U.S.C. 3001 (3)(A), the 13 objects described above are reasonably believed to have been placed with or near individual human remains at the time of death or later as part of the death rite or ceremony. Lastly, officials of the American Museum of Natural History have determined that, pursuant to 25 U.S.C. 3001 (2), there is a relationship of shared group identity that can be reasonably traced between the Native American human remains and associated funerary objects and the Confederated Tribes and Bands of the Yakama Indian Nation, Washington and the Confederated Tribes of the Warm Springs Reservation of Oregon.

Representatives of any other Indian tribe that believes itself to be culturally affiliated with these human remains and associated funerary objects should contact Luc Litwinionek, Director of Cultural Resources, American Museum of Natural History, Central Park West at 79th Street, New York, NY 10024-5192, telephone (212) 769-5846, before December 31, 2003. Repatriation of the human remains and associated funerary objects to the Confederated Tribes and Bands of the Yakama Indian Nation, Washington and Confederated Tribes of the Warm Springs Reservation of Oregon may proceed after that date if no additional claimants come forward.

The American Museum of Natural History is responsible for notifying the Confederated Tribes and Bands of the Yakama Indian Nation, Washington; Confederated Tribes of the Chehalis Reservation, Washington; Confederated Tribes of the Colville Reservation, Washington; Confederated Tribes of the Grand Ronde Community of Oregon; Confederated Tribes of the Warm Springs Reservation of Oregon; Hoh Indian Tribe of the Hoh Indian Reservation, Washington; Jamestown S'Klallam Tribe of Washington; Lower Elwha Tribal Community of the Lower Elwha Reservation, Washington; Lummi Tribe of the Lummi Reservation, Washington; Makah Indian Tribe of the Makah Indian Reservation, Washington; Muckleshoot Indian Tribe of the Muckleshoot Reservation, Washington; Nisqually Indian Tribe of the Nisqually Reservation, Washington; Nooksack Indian Tribe of Washington; Port Gamble Indian Community of the Port Gamble Reservation, Washington; Puyallup Tribe of the Puyallup Reservation, Washington; Quileute Tribe of the Quileute Reservation, Washington; Quinault Tribe of the Quinault Reservation, Washington; Samish Indian Tribe, Washington; Shoalwater Bay Tribe of the Shoalwater Bay Indian Reservation, Washington; Skokomish Indian Tribe of the Skokomish Reservation, Washington; Squaxin Island Tribe of the Squaxin Island Reservation, Washington; Stillaguamish Tribe of Washington; the Swinomish Indians of the Swinomish Reservation, Washington; Tulalip Tribes of the Tulalip Reservation, Washington; and Upper Skagit Indian Tribe of Washington that this notice has been published.

Dated: October 24, 2003.
John Robbins,
Assistant Director, Cultural Resources.

[FR Doc. 03-29768 Filed 11-28-03; 8:45 am]

BILLING CODE 4310-50-S